DEPARTMENT OF THE TREASURY

Internal Revenue Service

26 CFR Parts 1, 31, 40, and 301

[TD 9507]

RIN 1545-BJ13

Electronic Funds Transfer of Depository Taxes; Correction

AGENCY: Internal Revenue Service (IRS), Treasury.

ACTION: Correction to final and temporary regulations.

SUMMARY: This document contains corrections to final and temporary regulations (TD 9507) that were published in the Federal Register on Tuesday, December 7, 2010 (75 FR 75897) providing guidance relating to Federal tax deposits (FTDs) by Electronic Funds Transfer (EFT). The temporary and final regulations provide rules under which depositors must use EFT for all FTDs and eliminate the rules regarding FTD coupons.

DATES: Effective January 6, 2011.

FOR FURTHER INFORMATION CONTACT: Michael Hara, (202) 622-4910 (not a toll free number).

SUPPLEMENTARY INFORMATION:

Background

The final and temporary regulations (TD 9507) that are the subject of these corrections are under section 6302 of the Internal Revenue Code.

Need for Correction

As published, the final and temporary regulations (TD 9507) contain errors that may prove to be misleading and are in need of clarification.

Correction of Publication

Accordingly, the final and temporary regulations (TD 9507), that are the subject of FR Doc. 2010-30526, are corrected as follows:

1. On page 75898, in the preamble, column 3, under the paragraph heading “9. Business Days and Legal Holidays”, line 8 from the bottom of the page, the language “section 7503, the term “legal holiday”” is corrected to read “section 7503, the term legal holiday”.

2. On page 75899, in the preamble, column 1, line 19 from the top of the page, the language “transitional relief. Notice 2010- states” is corrected to read “transitional relief. Notice 2010-87 states”.

Guy Traynor,
Federal Register Liaison, Publications and Regulations Branch, Legal Processing Division, Associate Chief Counsel (Procedure and Administration).

[FR Doc. 2010-33357 Filed 1-5-11; 8:45 am]

BILLING CODE 4830-01-P